DEPARTMENT OF THE INTERIOR

Bureau of Land Management

[OR110-5880-PB; HAG02-0258]

Correction to Notice of Meetings for Medford District Resource Advisory Committee

AGENCY: Bureau of Land Management, Interior.

ACTION: Correction to notice of meetings for Medford District Resource Advisory Committee.

This notice was previously published in the Federal Register: Vol. 67, No. 97/page 35572, Monday May 20, 2002.

SUMMARY: The Federal Register Notice has an incorrect date for a Medford District Resource Advisory Committee field trip. The correct date is July 25, 2002.

The Medford District Resource Advisory Committee will meet in Medford to tour project sites and to discuss proposed 2003 projects on July 11, 2002, July 25, August 8, 2002, and August 22, 2002. The field trips on July 11, 2002 and July 25, 2002 will begin at 7 am. The meetings on August 8, 2002 and August 22, 2002 will begin at 10 am. A public comment period will be held from 2 pm to 2:30 pm. The field trips and meetings are expected to adjourn at 4 pm.

FOR FURTHER INFORMATION CONTACT: Karen Gillespie, Medford District Office (541-618-2424).

Dated: June 6, 2002.
Aaron Horton,
Acting District Manager.

[FR Doc. 02-16001 Filed 6-24-02; 8:45 am]

BILLING CODE 4310-33-P